SMALL BUSINESS ADMINISTRATION

[Declaration of Disaster #3315]

State of Arkansas

As a result of the President's major disaster declaration on December 29, 2000, I find that the following Counties in the State of Arkansas constitute a disaster area due to damages caused by a severe winter ice storm beginning on December 12, 2000 and continuing: Arkansas, Benton, Bradley, Calhoun, Clark, Cleveland, Columbia, Crawford, Crittenden, Cross, Dallas, Desha, Drew, Faulkner, Franklin, Garland, Grant, Hempstead, Hot Spring, Howard, Jackson, Jefferson, Johnson, Lafayette, Lee, Lincoln, Little River, Logan, Lonoke, Madison, Miller, Mississippi, Monroe, Montgomery, Nevada, Ouachita, Perry, Pike, Poinsett, Polk, Prairie, Pulaski, Saline, Scott, Sebastian, Sevier, St. Francis, Union, Washington, White, Woodruff, and Yell. Applications for loans for physical damage as a result of this disaster may be filed until the close of business on February 27, 2001, and for loans for economic injury until the close of business on October 1, 2001 at the address listed below or other locally announced locations: U.S. Small Business Administration, Disaster Area 3 Office, 4400 Amon Carter Blvd., Suite 102, Fort Worth, TX 76155.

In addition, applications for economic injury loans from small businesses located in the following contiguous counties may be filed until the specified date at the above location: Ashley, Carroll, Chicot, Cleburne, Conway, Craighead, Independence, Lawrence, Newton, Phillips, Pope, and Van Buren Counties in Arkansas; Bossier, Caddo, Claiborne, Morehouse, Union, and Webster Counties, Louisiana; Bolivar, Coahoma, De Soto, and Tunica Counties in Mississippi; Adair, Delaware, Le Flore, McCurtain, and Sequoyah Counties, Oklahoma; Dyer, Lauderdale, Shelby, and Tipton Counties in Tennessee; Barry, Dunklin, McDonald, and Pemiscot Counties, Missouri; and Bowie and Cass Counties, Texas.

The interest rates are:

For Physical Damage:

Homeowners With Credit Available Elsewhere—7.000%

Homeowners Without Credit Available Elsewhere—3.500%

Businesses With Credit Available Elsewhere—8.000%

Businesses and Non-Profit Organizations Without Credit Available Elsewhere—4.000%

Others (Including Non-Profit Organizations) With Credit Available Elsewhere—7.000%

For Economic Injury:

Businesses and Small Agricultural Cooperatives Without Credit Available Elsewhere—4.000%

The number assigned to this disaster for physical damage is 331511. For economic injury the numbers are 9K1000 for Arkansas, 9K1100 for Louisiana, 9K1200 for Mississippi, 9K1300 for Oklahoma, 9K1400 for Tennessee, 9K1500 for Missouri and 9K1600 for Texas.

(Catalog of Federal Domestic Assistance Program Nos. 59002 and 59008.)

Dated: January 3, 2001.
Herbert L. Mitchell,
Acting Associate Administrator for Disaster Assistance.

[FR Doc. 01-902 Filed 1-10-01; 8:45 am]

BILLING CODE 8025-01-P